DEPARTMENT OF HOMELAND SECURITY

U.S. Citizenship and Immigration Services

[CIS No. 2526-12; DHS Docket No. USCIS-2012-0013]

RIN 1615-ZB16

Extension and Redesignation of Sudan for Temporary Protected Status

AGENCY: U.S. Citizenship and Immigration Services, Department of Homeland Security.

ACTION: Notice.

SUMMARY: This Notice announces that the Secretary of Homeland Security (Secretary) is both extending the existing designation of Sudan for Temporary Protected Status (TPS) for 18 months from May 3, 2013 through November 2, 2014, and redesignating Sudan for TPS for 18 months, effective May 3, 2013 through November 2, 2014.

The extension allows currently eligible TPS beneficiaries to retain TPS through November 2, 2014. The redesignation of Sudan allows additional individuals who have been continuously residing in the United States since January 9, 2013, to obtain TPS, if eligible. The Secretary has determined that an extension and redesignation are warranted because the conditions in Sudan that prompted the TPS designation not only continue to be met but have deteriorated. There continues to be a substantial, but temporary, disruption of living conditions in Sudan based upon ongoing armed conflict and extraordinary and temporary conditions in that country that prevent Sudanese who now have TPS from returning in safety.

This Notice also sets forth procedures necessary for nationals of Sudan (or aliens having no nationality who last habitually resided in Sudan) to either: (1) Re-register under the extension if they already have TPS and to apply for renewal of their Employment Authorization Documents (EADs) with U.S. Citizenship and Immigration Services (USCIS) or (2) submit an initial registration application under the redesignation and apply for an EAD.

For individuals who have already been granted TPS under the Sudan designation, the 60-day re-registration period runs from January 9, 2013 through March 11, 2013. USCIS will issue new EADs with a November 2, 2014 expiration date to eligible Sudanese TPS beneficiaries who timely re-register and apply for EADs under this extension.

Under the redesignation, individuals who currently do not have TPS (or an initial TPS application pending) may submit an initial application during the 180-day initial registration period that runs from January 9, 2013 through July 8, 2013. In addition to demonstrating continuous residence in the United States since January 9, 2013, initial applicants for TPS under this redesignation must demonstrate that they have been continuously physically present in the United States since May 3, 2013, the effective date of the redesignation of Sudan, before USCIS will be able to grant them TPS.

In a separate Federal Register notice published on January 9, 2013, the Secretary has redesignated South Sudan for TPS. Some individuals who are TPS beneficiaries under the current designation of Sudan may now be nationals of South Sudan, and may now qualify for TPS under South Sudan. The South Sudan notice sets forth special procedures for such individuals to register and apply for TPS under the South Sudan redesignation.

DATES: Extension of TPS: The 18-month extension of the TPS designation of Sudan is effective May 3, 2013, and will remain in effect through November 2, 2014. The 60-day re-registration period runs from January 9, 2013 through March 11, 2013.

Redesignation of Sudan for TPS: The redesignation of Sudan for TPS is effective May 3, 2013, and will remain in effect through November 2, 2014, a period of 18 months. The 180-day initial registration period for new applicants under the Sudan TPS redesignation runs from January 9, 2013 through July 8, 2013.

Further Information

• For further information on TPS, including guidance on the application process and additional information on eligibility, please visit the USCIS TPS Web page at http://www.uscis.gov/tps. You can find specific information about this extension and redesignation of Sudan for TPS by selecting “TPS Designated Country: Sudan” from the menu on the left of the TPS Web page.

• You can also contact the TPS Operations Program Manager at the Family and Status Branch, Service Center Operations Directorate, U.S. Citizenship and Immigration Services, Department of Homeland Security, 20 Massachusetts Avenue NW., Washington, DC 20529-2060; or by phone at (202) 272-1533 (this is not a toll-free number). Note: The phone number provided here is solely for questions regarding this TPS notice. It is not for individual case status inquiries.

• Applicants seeking information about the status of their individual cases can check Case Status Online, available at the USCIS Web site at http://www.uscis.gov, or call the USCIS National Customer Service Center at 800-375-5283 (TTY 800-767-1833). Service is available in English and Spanish only.

• Further information will also be available at local USCIS offices upon publication of this Notice.

SUPPLEMENTARY INFORMATION:

Abbreviations and Terms Used in This Document

CPA—Comprehensive Peace Agreement

DHS—Department of Homeland Security

DOS—Department of State

EAD—Employment Authorization Document

Government—U.S. Government

HRW—Human Rights Watch

IDP—Internally Displaced People

INA—Immigration and Nationality Act

OCHA—UN Office for the Coordination of Humanitarian Affairs

OSC—U.S. Department of Justice, Office of Special Counsel for Immigration-Related Unfair Employment Practices

SAF—Sudan Armed Forces

Secretary—Secretary of Homeland Security

South Sudan—Republic of South Sudan

SPLA—Sudan People's Liberation Army (South Sudan's military)

TPS—Temporary Protected Status

UN—United Nations

UNAMID—UN-African Union Hybrid Mission in Darfur

USCIS—U.S. Citizenship and Immigration Services

What is Temporary Protected Status (TPS)?

• TPS is a temporary immigration status granted to eligible nationals of a country designated for TPS under the Immigration and Nationality Act (INA), or to persons without nationality who last habitually resided in the designated country.

• During the TPS designation period, TPS beneficiaries are eligible to remain in the United States and may obtain work authorization, so long as they continue to meet the requirements of TPS status.

• TPS beneficiaries may also be granted travel authorization as a matter of discretion.

• The granting of TPS does not lead to permanent resident status.

• When the Secretary terminates a country's TPS designation, beneficiaries return to the same immigration status they maintained before TPS, if any (unless that status has since expired or been terminated), or to any other lawfully obtained immigration status they received while registered for TPS.

When was Sudan designated for TPS?

On November 4, 1997, the Attorney General designated Sudan for TPS based on an ongoing armed conflict and extraordinary and temporary conditions within that country. See 62 FR 59737; sections 244(b)(1)(A) and (C) of the INA, 8 U.S.C. 1254a(b)(1)(A) and (C). Following the initial designation of Sudan for TPS in 1997, the Attorney General and, later, the Secretary have extended TPS and/or redesignated Sudan for TPS a total of 12 times. The last extension of TPS for Sudan was announced on October 13, 2011, based on the Secretary's determination that the conditions warranting the designation continued to be met. See 76 FR 63635. This announcement is the thirteenth extension and the third redesignation of TPS for Sudan since the original designation in 1997.

What authority does the Secretary of Homeland Security have to extend the designation of Sudan for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See section 244(a)(1)(A) of the INA, 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See section 244(b)(3)(A) of the INA, 8 U.S.C. 1254a(b)(3)(A). If the Secretary determines that a foreign state continues to meet the conditions for TPS designation, the designation is extended for an additional 6 months (or, in the Secretary's discretion, for 12 or 18 months). See section 244(b)(3)(C) of the INA, 8 U.S.C. 1254a(b)(3)(C). If the Secretary determines that the foreign state no longer meets the conditions for TPS designation, the Secretary must terminate the designation. See section 244(b)(3)(B) of the INA, 8 U.S.C. 1254a(b)(3)(B).

What is the Secretary's authority to redesignate Sudan for TPS?

In addition to extending an existing TPS designation, the Secretary, after consultation with appropriate Government agencies, may redesignate a country (or part thereof) for TPS. See section 244(b)(1) of the INA, 8 U.S.C. 1254a(b)(1); see also section 244(c)(1)(A)(i) of the INA, 8 U.S.C. 1254a(c)(1)(A)(i) (requiring that “the alien has been continuously physically present since the effective date of the most recent designation of the state” (emphasis added)). This is one of several instances in which the Secretary, and prior to the establishment of the Department of Homeland Security (DHS) the Attorney General, have simultaneously extended a country's TPS designation and redesignated the country for TPS. See, e.g., 77 FR 25723 (May 1, 2012) (extension and redesignation for Somalia); 76 FR 29000 (May 19, 2011) (extension and redesignation for Haiti); 62 FR 16608 (Apr. 7, 1997) (extension and redesignation for Liberia).

When the Secretary designates or redesignates a country for TPS, she also has the discretion to establish the date from which TPS applicants must demonstrate that they have been “continuously resid[ing]” in the United States. See section 244(c)(1)(A)(ii) of the INA, 8 U.S.C.S 1254a(c)(1)(A)(ii). This discretion permits the Secretary to tailor the “continuous residence” date to offer TPS to the group of eligible individuals that the Secretary deems appropriate.

The Secretary has determined that the “continuous residence” date for applicants for TPS under the redesignation of Sudan shall be January 9, 2013. Initial applicants for TPS under this redesignation must also show they have been “continuously physically present” in the United States since May 3, 2013, which is the effective date of the Secretary's redesignation of Sudan. See section 244(c)(1)(A)(i) of the INA, 8 U.S.C. 1254a(c)(1)(A)(i). For each initial TPS application filed under the redesignation, the final determination whether the applicant has met the “continuous physical presence” requirement cannot be made until May 3, 2013. USCIS, however, will issue EADs, as appropriate, during the registration period in accordance with 8 CFR 244.5(b).

Why is the Secretary extending the TPS designation for Sudan and simultaneously redesignating Sudan for TPS through November 2, 2014?

Over the past year, DHS and the Department of State (DOS) have continued to review conditions in Sudan. Based on this review and after consulting with DOS, the Secretary has determined that an 18-month extension is warranted because the armed conflict is ongoing and the extraordinary and temporary conditions that prompted the November 4, 1997 designation and the last redesignation on October 7, 2004 persist. The Secretary has further determined that the conditions in Sudan, which have deteriorated, support redesignating Sudan for TPS and changing the “continuous residence” and “continuous physical presence” dates so as to continue affording TPS protection to the approximately 300 Sudanese nationals who arrived in the United States before October 7, 2004 and registered under the initial designation or redesignations and to extend TPS protection to eligible Sudanese nationals who arrived between October 7, 2004 and January 9, 2013.

Ongoing armed conflict throughout much of Sudan has caused continued insecurity and has led to continued internal displacement and refugee flight into neighboring countries. Violence and ensuing population displacement, along with environmental and economic factors, have created one of the worst humanitarian crises in the world. Efforts by the international community to get aid to the civilian population continue to be severely compromised by threats to the safety of aid workers and restrictions on the movement and operations of aid organizations.

Citizens of Sudan are affected by violent conflicts in four distinct areas: Darfur and the three transitional areas along the Sudan-South Sudan border (Abyei, Blue Nile State, and Southern Kordofan). In some areas of Darfur, Government-rebel clashes declined somewhat. However, in Darfur, rebel factions, bandits, and unidentified assailants have killed and abducted civilians, humanitarian workers, and personnel of the United Nations-African Union Hybrid Mission in Darfur (UNAMID); beaten and raped civilians; and used child soldiers. Since the initial deployment of UNAMID on December 31, 2007, over 35 peacekeepers have been killed in Darfur as a result of hostile actions. Inter-ethnic violence is a severe problem, and has resulted in civilian deaths and displacement. Peace agreements for Darfur were signed in 2006, 2007, 2010, and 2011, yet the fighting has continued. The ethnic and racial elements of the violence in Darfur distinguish it from the political and socio-economic based conflict between Sudan and South Sudan. In July and August 2012, there were attacks on the Kassab internally displaced people (IDP) camp in North Darfur. According to the American Free Press, these attacks killed an undetermined number of people and displaced 25,000 people temporarily.

The 2005 Comprehensive Peace Agreement (CPA) ended Sudan's decades-long civil war. But while provisions of the CPA have been upheld, many contentious issues remain unresolved and present the potential for conflict. Since South Sudan's secession, the three transition areas have remained the most contentious and violent regions. As part of the CPA, the contested territory of Abyei was to be jointly administered until local residents determined whether they would join Sudan or the South Sudan, but the referendum has yet to be held. In the months leading up to South Sudan's independence, both the Sudanese and the South Sudanese armies reinforced their positions near Abyei. On May 19, 2011, in a move condemned by the United Nations (UN) as a breach of the 2005 CPA, Sudan Armed Forces (SAF) and Sudanese police attacked and took control of Abyei. The UN News Service reported that as a result of the conflict, more than 110,000 people were displaced into Agok and South Sudan. Although the SAF and the majority of the Sudanese police had withdrawn from the area by early June 2012, the UN reported that as of July 2012, the majority of those who fled the fighting in 2011 remained displaced in and outside the Abyei area because of the lack of a civilian Abyei administration, the continued presence of armed forces, and the presence of landmines.

In June 2011, fighting between the SAF and South Sudan's military—the Sudan People's Liberation Army (SPLA)—erupted in Kadugli, the capital of Southern Kordofan. On June 25, 2011, UN Office for the Coordination of Humanitarian Affairs (OCHA) reported that Sudanese government forces conducted airstrikes and artillery shelling in the eastern and southern parts of the Nuba Mountains in Southern Kordofan. Hostilities increased in April 2012, when South Sudanese forces captured the disputed oilfield of Heglig.

In September 2011, a new battle zone erupted in Blue Nile State. Human Rights Watch (HRW) interviewed witnesses who “described indiscriminate bombings in civilian areas, killings, and other serious abuses by Sudanese armed forces since armed conflict broke out there.” In the states of Southern Kordofan and Blue Nile, Sudanese government forces provided support, weapons, and ammunition to government-aligned militias, and the Sudanese government seldom took action against soldiers or militia members who attacked civilians. According to UN reports, the fighting in these two states displaced or severely affected over 650,000 people—an increase of over 400,000-500,000 individuals since August 2011.

In addition to the continued violence in Darfur and the three transitional areas, the government of Sudan has responded with violence to disperse recent protests and to repress participants and organizers, which has resulted in deaths and arrests of activists. For the most part, these were peaceful demonstrations. Beginning in January 2011, antigovernment protestors demonstrated in Khartoum (the capital of Sudan) calling for President Omar al-Bashir to resign. Protestors were met with forceful resistance from police and security forces. Protests continued in the capital as well as other locations during the spring of 2011 and again in December of 2011. Small but sustained anti-regime protests began again in Khartoum and other major towns throughout Sudan in June 2012 and continued through July and August 2012. The U.S. Embassy in Khartoum had received reports that anywhere from 1,000-2,000 individuals from youth activist groups, opposition parties, and universities have been arrested and held in detention for prolonged periods of time without access to legal recourse. Reuters reported in August 2012 accounts of several deaths and an unknown number of injuries.

Insecurity due to ongoing fighting and the ongoing targeting of civilians has led to continued displacement of the Sudanese population. The U.S. Government and humanitarian observers have repeatedly condemned the Sudanese government for targeting civilians in aerial bombing campaigns. Despite these international concerns, the Sudanese military has persisted in bombing campaigns against civilians, including the use of “cluster bombs.” Furthermore, the government's human rights record is extremely poor and includes instances of extrajudicial killings, disappearances, arbitrary arrest and detention, forced population movements, rape, slavery, forced conscription of children, and severely restricted freedom of assembly, association, religion, speech, and movement. The Internal Displacement Monitoring Centre estimated that as of December 2011, there were over 4 million internally displaced people. The UN High Commissioner for Refugees reported that there were more than 500,000 refugees originating from Sudan.

Myriad factors contribute to the ongoing humanitarian crisis in Sudan that has left much of Sudan's population of approximately 26 million in need of humanitarian assistance. While there were improvements in the levels of food security in some regions, drought and flooding contributed to increased food insecurity and malnutrition in others. The ability of aid workers to provide much needed humanitarian aid has not only been compromised by dangers to aid workers but also by government prohibitions on operations and access to certain areas where large populations of people are in need of assistance.

Based upon this review and after consultation with appropriate Government agencies, the Secretary finds that:

• The conditions that prompted the October 7, 2004 redesignation of Sudan for TPS continue to be met. See sections 244(b)(3)(A) and (C) of the INA, 8 U.S.C. 1254a(b)(3)(A) and (C).

• There continues to be an armed conflict in Sudan and, due to such conflict, requiring the return of Sudanese nationals to Sudan would pose a serious threat to their personal safety. See section 244(b)(1)(A) of the INA, 8 U.S.C. 1254a(b)(1)(A).

• There continue to be extraordinary and temporary conditions in Sudan that prevent Sudanese nationals from returning to Sudan in safety. See section 244(b)(1)(C) of the INA, 8 U.S.C. 1254a(b)(1)(C).

• It is not contrary to the national interest of the United States to permit Sudanese nationals (and persons who have no nationality who last habitually resided in Sudan) who meet the eligibility requirements of TPS to remain in the United States temporarily. See section 244(b)(1)(C) of the INA, 8 U.S.C. 1254a(b)(1)(C).

• The designation of Sudan for TPS should be extended for an additional 18-month period from May 3, 2013 through November 2, 2014. See section 244(b)(3)(C) of the INA, 8 U.S.C. 1254a(b)(3)(C).

• Based on current country conditions, Sudan should be simultaneously redesignated for TPS effective May 3, 2013 through November 2, 2014. See sections 244(b)(1)(A), (b)(1)(C), and (b)(2) of the INA; 8 U.S.C. 1254a(b)(1)(A), (b)(1)(C), and (b)(2).

• TPS applicants must demonstrate that they have continuously resided in the United States since January 9, 2013.

• The date by which TPS applicants must demonstrate that they have been continuously physically present in the United States is May 3, 2013, the effective date of the redesignation of Sudan for TPS.

• There are approximately 300 current Sudanese TPS beneficiaries who are expected to be eligible to re-register for TPS under the extension. DHS recognizes that some individuals who registered under the designation of Sudan may be eligible for TPS under the redesignation of South Sudan. If such individuals present satisfactory documentation of their South Sudanese nationality, and are otherwise eligible for TPS, they may choose to register under the TPS redesignation of South Sudan instead of Sudan.

• It is estimated that fewer than 4,000 additional individuals may be eligible for TPS under the combined redesignations of Sudan and South Sudan. With the creation of South Sudan having just occurred on July 9, 2011, it is difficult to break down this estimate between the two countries. This population includes potentially eligible Sudanese and South Sudanese who are in lawful nonimmigrant status or who have no other status.

Notice of Extension of the TPS Designation of Sudan and Redesignation of Sudan for TPS

By the authority vested in me as Secretary under section 244 of the INA, 8 U.S.C. 1254a, I have determined, after consultation with the appropriate Government agencies, that the conditions that prompted the redesignation of Sudan for TPS on October 7, 2004, not only continue to be met, but have deteriorated. See section 244(b)(3)(A) of the INA, 8 U.S.C. 1254a(b)(3)(A). On the basis of this determination, I am simultaneously extending the existing TPS designation of Sudan for 18 months from May 3, 2013 through November 2, 2014, and redesignating Sudan for TPS for 18 months from May 3, 2013 through November 2, 2014. See sections 244(b)(1)(A), (b)(1)(C), and (b)(2) of the INA; 8 U.S.C. 1254a(b)(1)(A), (b)(1)(C), and (b)(2). I have also determined that eligible individuals must demonstrate that they have continuously resided in the United States since January 9, 2013. See section 244(c)(1)(A)(ii) of the INA, 8 U.S.C. 1254a(c)(1)(A)(ii).

Janet Napolitano,
Secretary.

Required Application Forms and Application Fees To Register or Re-register for TPS

To register or re-register for TPS for Sudan, an applicant must submit each of the following two applications:

1. Application for Temporary Protected Status (Form I-821).

• If you are filing an initial application, you must pay the fee for the Application for Temporary Protected Status (Form I-821). See 8 CFR 244.2(f)(1) and 244.6 and information on initial filing on the USCIS TPS Web page at http://www.uscis.gov/tps.

• If you are filing a re-registration, you do not need to pay the fee for the Application for Temporary Protected Status (Form I-821). See 8 CFR 244.17.

and

2. Application for Employment Authorization (Form I-765).

• If you are applying for initial registration and want an EAD, you must pay the fee for Application for the Employment Authorization (Form I-765) only if you are age 14 through 65. No fee for the Application for Employment Authorization (Form I-765) is required if you are under the age of 14 or 66 and older and applying for initial registration.

• If you are applying for re-registration, you must pay the fee for the Application for Employment Authorization (Form I-765) only if you want an EAD.

• You do not pay the fee for the Application for Employment Authorization (Form I-765) if you are not requesting an EAD, regardless of whether you are applying for initial registration or re-registration.

You must submit both completed application forms together. If you are unable to pay for the application and/or biometrics fee, you may apply for a fee waiver by completing a Request for Fee Waiver (Form I-912) or submitting a personal letter requesting a fee waiver, and by providing satisfactory supporting documentation. For more information on the application forms and fees for TPS, please visit the USCIS TPS Web page at http://www.uscis.gov/tps. Fees for the Application for Temporary Protected Status (Form I-821), the Application for Employment Authorization (Form I-765), and biometric services are also described in 8 CFR 103.7(b)(1)(i).

Biometric Services Fee

Biometrics (such as fingerprints) are required for all applicants 14 years of age or older. Those applicants must submit a biometric services fee. As previously stated, if you are unable to pay for the biometric services fee, you may apply for a fee waiver by completing a Request for Fee Waiver (Form I-912) or by submitting a personal letter requesting a fee waiver, and providing satisfactory supporting documentation. For more information on the biometric services fee, please visit the USCIS Web site at http://www.uscis.gov. If necessary, you may be required to visit an Application Support Center to have your biometrics captured.

Refiling an Initial TPS Application After Receiving a Denial of a Fee Waiver Request

If you request a fee waiver when filing your initial TPS application package and your request is denied, you may refile your application packet before the initial filing deadline of July 8, 2013. If you submit your application with a fee waiver request before that deadline, but you receive a fee waiver denial and there are fewer than 45 days before the filing deadline (or the deadline has passed), you may still refile your application within the 45-day period after the date on the USCIS fee waiver denial notice. Your application will not be rejected even if the filing deadline has passed, provided it is mailed within those 45 days and all other required information for the application is included. Note: If you wish, you may also wait to request an EAD and pay the Application for Employment Authorization (Form I-765) fee after USCIS grants you TPS, if you are found eligible. If you choose to do this, you would still need to file the Application for Employment Authorization (Form I-765) without fee and without requesting an EAD with the Application for Temporary Protected Status (Form I-821).

Refiling a Re-Registration TPS Application After Receiving a Denial of a Fee Waiver Request

USCIS urges all re-registering applicants to file as soon as possible within the 60-day re-registration period so that USCIS can process the applications and issue EADs promptly. Filing early will also allow those applicants who may receive denials of their fee waiver requests to have time to refile their applications before the re-registration deadline. If, however, an applicant receives a denial of his or her fee waiver request and is unable to refile by the re-registration deadline, the applicant may still refile his or her application. This situation will be reviewed under good cause for late re-registration. However, applicants are urged to refile within 45 days of the date on their USCIS fee waiver denial notice, if at all possible. See section 244(c)(3)(C) of the INA; 8 U.S.C. 1254a(c)(3)(C); 8 CFR 244.17(c). For more information on good cause for late re-registration, visit the USCIS TPS Web page at http://www.uscis.gov/tps. Note: As previously stated, although a re-registering TPS beneficiary age 14 and older must pay the biometric services fee (but not the initial TPS application fee) when filing a TPS re-registration application, the applicant may decide to wait to request an EAD, and therefore not pay the Application for Employment Authorization (Form I-765) fee until after USCIS has approved the individual's TPS re-registration, if he or she is eligible.

Mailing Information

Mail your application for TPS to the proper address in Table 1.

Table 1—Mailing Addresses
If . . . | Mail to . . .
You are applying through the U.S. Postal Service | USCIS, P.O. Box 6943, Chicago, IL 60680-6943.
You are using a non-U.S. Postal Service delivery service | USCIS, Attn: TPS Sudan, 131 S. Dearborn 3rd Floor, Chicago, IL 60603-5517.

If you were granted TPS by an Immigration Judge (IJ) or the Board of Immigration Appeals (BIA), and you wish to request an EAD or are re-registering for the first time following a grant of TPS by the IJ or BIA, please mail your application to the appropriate address in Table 1 above. Upon receiving a Receipt Notice from USCIS, please send an email to TPSijgrant.vsc@uscis.dhs.gov with the receipt number and state that you submitted a re-registration and/or request for an EAD based on an IJ/BIA grant of TPS. You can find detailed information on what further information you need to email and the email addresses on the USCIS TPS Web page at http://www.uscis.gov/tps.

E-Filing

You cannot electronically file your application when re-registering or applying for initial registration for Sudan TPS. Please mail your application to the mailing address listed in Table 1 above.

Employment Authorization Document (EAD)

May I request an interim EAD at my local USCIS office?

No. USCIS will not issue interim EADs to TPS applicants and re-registrants at local offices.

Will my current EAD, which is set to expire on May 2, 2013, be automatically extended for 6 months?

No. This notice does not automatically extend previously issued EADs. DHS has announced the extension of the TPS designation of Sudan and established the re-registration period at an early date to allow sufficient time for USCIS to process EAD requests prior to the May 2, 2013 expiration date. You must apply during the 60-day re-registration period. Failure to apply for TPS during the re-registration period without good cause may result in gaps in work authorization. DHS strongly encourages you to apply as early as possible within the re-registration period.

When hired, what documentation may I show to my employer as proof of employment authorization and identity when completing Employment Eligibility Verification (Form I-9)?

You can find a list of acceptable document choices on the “Lists of Acceptable Documents” for Employment Eligibility Verification (Form I-9). You can find additional detailed information on the USCIS I-9 Central Web page at http://www.uscis.gov/I-9Central. Employers are required to verify the identity and employment authorization of all new employees by using Employment Eligibility Verification (Form I-9). Within 3 days of hire, an employee must present proof of identity and employment authorization to his or her employer.

You may present any document from List A (reflecting both your identity and employment authorization), or one document from List B (reflecting identity) together with one document from List C (reflecting employment authorization). An EAD is an acceptable document under “List A.” Employers may not reject a document based upon a future expiration date.

What documentation may I show my employer if I am already employed but my current TPS-related EAD is set to expire?

You must present any document from List A or any document from List C on Employment Eligibility Verification (Form I-9) to reverify employment authorization. Your employer is required to reverify on Employment Eligibility Verification (Form I-9) the employment authorization of current employees upon the expiration of a TPS-related EAD. Your employer should use either Section 3 of the Form I-9 originally completed for the employee or, if this section has already been completed or if the version of Form I-9 is no longer valid, in Section 3 of a new Form I-9 using the most current version. Note that your employer may not specify which List A or List C document employees must present.

USCIS anticipates that it will be able to process and issue new EADs for existing TPS Sudan beneficiaries before their current EADs expire on May 2, 2013. However, re-registering beneficiaries are encouraged to file as early as possible within the 60-day re-registration period to help ensure that they receive their EADs promptly.

Can my employer require that I produce any other documentation to prove my status, such as proof of my Sudanese citizenship?

No. When completing Employment Eligibility Verification (Form I-9), including reverifying employment authorization, employers must accept any documentation that appears on the “Lists of Acceptable Documents” for Employment Eligibility Verification (Form I-9) and that reasonably appears to be genuine and that relates to you. Employers may not request documentation that does not appear on the “Lists of Acceptable Documents.” Therefore, employers may not request proof of Sudanese citizenship when completing Employment Eligibility Verification (Form I-9) for new hires or reverifying the employment authorization of current employees. If presented with EADs that are unexpired on their face, employers should accept such EADs as valid List A documents so long as the EADs reasonably appear to be genuine and to relate to the employee. See below for important information about your rights if your employer rejects lawful documentation, requires additional documentation, or otherwise discriminates against you based on your citizenship or immigration status, or your national origin.

Note to All Employers

Employers are reminded that the laws requiring proper employment eligibility verification and prohibiting unfair immigration-related employment practices remain in full force. This notice does not supersede or in any way limit applicable employment verification rules and policy guidance, including those rules setting forth reverification requirements. For general questions about the employment eligibility verification process, employers may call the USCIS Form I-9 Customer Support at 888-464-4218 (TDD for the hearing impaired is at 877-875-6028). For questions about avoiding discrimination during the employment eligibility verification process, employers may also call the Department of Justice, Office of Special Counsel for Immigration-Related Unfair Employment Practices (OSC) Employer Hotline at 800-255-8155 (TDD for the hearing impaired is at 800-237-2515), which offers language interpretation in numerous languages.

Note to Employees

For general questions about the employment eligibility verification process, employees may call the USCIS National Customer Service Center at 800-375-5283 (TDD for the hearing impaired is at 800-767-1833); calls are accepted in English and Spanish. Employees or applicants may also call the OSC Worker Information Hotline at 800-255-7688 (TDD for the hearing impaired is at 800-237-2515) for information regarding employment discrimination based upon citizenship, immigration status, or national origin, or for information regarding discrimination related to Employment Eligibility Verification (Form I-9) and E-Verify. The OSC Worker Information Hotline provides language interpretation in numerous languages. In order to comply with the law, employers must accept any document or combination of documents acceptable for Employment Eligibility Verification (Form I-9) completion if the documentation reasonably appears to be genuine and to relate to the employee. Employers may not require extra or additional documentation beyond what is required for Employment Eligibility Verification (Form I-9) completion. Further, employers participating in E-verify who receive an E-verify initial mismatch (“tentative nonconfirmation” or “TNC”) on employees must inform employees of the mismatch and give such employees an opportunity to challenge the mismatch. Employers are prohibited from taking adverse action against such employees based on the initial mismatch unless and until E-Verify returns a final nonconfirmation. For example, employers must allow employees challenging their mismatches to continue to work without any delay in start date or training and without any change in hours or pay, while the final E-Verify determination remains pending. Additional information is available on the OSC Web site at http://www.justice.gov/crt/about/osc and the USCIS Web site at http://www.dhs.gov/E-verify.

Note Regarding Federal, State, and Local Government Agencies (Such as Departments of Motor Vehicles)

While Federal government agencies must follow the guidelines laid out by the Federal government, state and local government agencies establish their own rules and guidelines when granting certain benefits. Each state may have different laws, requirements, and determinations about what documents you need to provide to prove eligibility for certain benefits. Whether you are applying for a Federal, state, or local government benefit, you may need to provide the government agency with documents that show you are a TPS beneficiary and/or show you are authorized to work based on TPS. Examples are:

(1) Your EAD that has a valid expiration date;

(2) A copy of your Application for Temporary Protected Status Receipt Notice (Form I-797) for this re-registration; and/or

(3) A copy of your past or current Application for Temporary Protected Status Approval Notice (Form I-797), if you receive one from USCIS.

Check with the government agency regarding which document(s) the agency will accept. You may also provide the agency with a copy of this notice.

Some benefit-granting agencies use the USCIS Systematic Alien Verification for Entitlements Program (SAVE) to verify the current immigration status of applicants for public benefits. If such an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request can be found at the SAVE Web site at http://www.uscis.gov/save, then by choosing “How to Correct Your Records” from the menu on the right.

[FR Doc. 2013-00049 Filed 1-8-13; 8:45 am]

BILLING CODE 9111-97-P